FEDERAL HOUSING FINANCE BOARD

[No. 2004-N-10]

Federal Home Loan Bank Members Selected for Community Support Review

AGENCY: Federal Housing Finance Board.

ACTION: Notice.

SUMMARY: The Federal Housing Finance Board (Finance Board) is announcing the Federal Home Loan Bank (Bank) members it has selected for the 2004-05 second quarter review cycle under the Finance Board's community support requirements regulation. This notice also prescribes the deadline by which Bank members selected for review must submit Community Support Statements to the Finance Board.

DATES: Bank members selected for the 2004-05 second quarter review cycle under the Finance Board's community support requirements regulation must submit completed Community Support Statements to the Finance Board on or before August 20, 2004.

ADDRESSES: Bank members selected for the 2004-05 second quarter review cycle under the Finance Board's community support requirements regulation must submit completed Community Support Statements to the Finance Board either by regular mail at the Federal Housing Finance Board, Office of Supervision, Community Investment and Affordable Housing, 1777 F Street, NW., Washington, DC 20006, or by electronic mail at FITZGERALDE@FHFB.GOV.

FOR FURTHER INFORMATION CONTACT: Emma J. Fitzgerald, Program Analyst, Office of Supervision, Community Investment and Affordable Housing, by telephone at 202/408-2874, by electronic mail at FITZGERALDE@FHFB.GOV, or by regular mail at the Federal Housing Finance Board, 1777 F Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the August 20, 2004 deadline prescribed in this notice. 12 CFR 944.2(b)(1)(ii) and (c). On or before July 23, 2004, each Bank will notify the members in its district that have been selected for the 2004-05 second quarter community support review cycle that they must complete and submit to the Finance Board by the deadline a Community Support Statement. 12 CFR 944.2(b)(2)(i). The member's Bank will provide a blank Community Support Statement Form, which also is available on the Finance Board's web site: WWW.FHFB.GOV. Upon request, the member's Bank also will provide assistance in completing the Community Support Statement.

The Finance Board has selected the following members for the 2004-05 second quarter community support review cycle:

Federal Home Loan Bank of Boston—District 1
Superior Savings of New England, N.A. | Branford | Connecticut.
Enfield Federal Savings and Loan Association | Enfield | Connecticut.
Essex Savings Bank | Essex | Connecticut.
First City Bank | New Britain | Connecticut.
Citizens Bank | New London | Connecticut.
Auburn Savings & Loan Association | Auburn | Maine.
First National Bank of Bar Harbor | Bar Harbor | Maine.
First FS&LA of Bath | Bath | Maine.
Aroostook County FS&LA | Caribou | Maine.
Kennebunk Savings Bank | Kennebunk | Maine.
Portland Regional Federal Credit Union | Portland | Maine.
Skowhegan Savings Bank | Skowhegan | Maine.
Kennebec Federal Savings | Waterville | Maine.
North Middlesex Savings Bank | Ayer | Massachusetts.
Investors Bank & Trust Company | Boston | Massachusetts.
First Trade Union Bank | Boston | Massachusetts.
Boston Private Bank & Trust Company | Boston | Massachusetts.
First Federal Savings Bank of Boston | Boston | Massachusetts.
Peoples Federal Savings Bank | Brighton | Massachusetts.
East Cambridge Savings Bank | Cambridge | Massachusetts.
Cambridge Savings Bank | Cambridge | Massachusetts.
Dedham Institution for Savings | Dedham | Massachusetts.
Eagle Bank | Everett | Massachusetts.
Citizens-Union Savings Bank | Fall River | Massachusetts.
Foxboro Federal Savings | Foxboro | Massachusetts.
Georgetown Savings Bank | Georgetown | Massachusetts.
Hyde Park Savings Bank | Hyde Park | Massachusetts.
Marblehead Savings Bank | Marblehead | Massachusetts.
Medford Co-operative Bank | Medford | Massachusetts.
Plymouth Savings Bank | Middleborough | Massachusetts.
Millbury Savings Bank | Millbury | Massachusetts.
Monson Savings Bank | Monson | Massachusetts.
Lawrence Savings Bank | North Andover | Massachusetts.
The Cooperative Bank | Roslindale | Massachusetts.
Saugusbank, a co-operative bank | Saugus | Massachusetts.
Scituate Federal Savings Bank | Scituate | Massachusetts.
Middlesex Federal Savings, F.A. | Somerville | Massachusetts.
Spencer Savings Bank | Spencer | Massachusetts.
Hampden Savings Bank | Springfield | Massachusetts.
Bristol County Savings Bank | Taunton | Massachusetts.
The Savings Bank | Wakefield | Massachusetts.
Federal Savings Bank | Dover | New Hampshire.
Franklin Savings Bank | Franklin | New Hampshire.
Meredith Village Savings Bank | Meredith | New Hampshire.
Salem Co-operative Bank | Salem | New Hampshire.
First Brandon National Bank | Brandon | Vermont.
Randolph National Bank | Randolph | Vermont.
Federal Home Loan Bank of New York—District 2
Pamrapo Savings Bank | Bayonne | New Jersey.
Farmers & Mechanics Bank | Burlington | New Jersey.
Freehold Savings & Loan Association | Freehold | New Jersey.
Spencer Savings Bank, SLA | Garfield | New Jersey.
GSL Savings Bank | Guttenberg | New Jersey.
Oritani Savings Bank | Hackensack | New Jersey.
Investors Savings Bank | Millburn | New Jersey.
Millington Savings Bank | Millington | New Jersey.
Ocean City Home Bank | Ocean City | New Jersey.
Amboy National Bank | Old Bridge | New Jersey.
OceanFirst Bank | Tom Rivers | New Jersey.
First Savings Bank | Woodbridge | New Jersey.
Bath National Bank | Bath | New York.
Brooklyn Federal Savings Bank | Brooklyn | New York.
Canisteo Federal Savings and Loan Association | Canisteo | New York.
Elmira Savings & Loan, F.A. | Elmira | New York.
The National Bank of Geneva | Geneva | New York.
Glens Falls National Bank and Trust Company | Glens Falls | New York.
Maple City Savings, FSB | Hornell | New York.
Sunnyside FS&LA of Irvington | Irvington | New York.
The Lyons National Bank | Lyons | New York.
Maspeth Federal Savings and Loan Association | Maspeth | New York.
Massena Savings & Loan Association | Massena | New York.
Cross County Federal Savings Bank | Middle Village | New York.
Provident Bank | Montebello | New York.
The Berkshire Bank | New York | New York.
Carver Federal Savings | New York | New York.
The Upstate National Bank | Ogdensburg | New York.
First Tier Bank & Trust | Olean | New York.
Wilber National Bank | Oneonta | New York.
Union State Bank | Orangeburg | New York.
Saratoga National Bank & Trust Company | Saratoga Springs | New York.
The National Bank of Stamford | Stamford | New York.
Federal Home Loan Bank of Pittsburgh—District 3
Delaware National Bank | Georgetown | Delaware.
Artisans' Bank | Wilmington | Delaware.
Laurel Savings Bank | Allison Park | Pennsylvania.
Investment Savings Bank | Altoona | Pennsylvania.
Reliance Savings Bank | Altoona | Pennsylvania.
Peoples Home Savings Bank | Beaver Falls | Pennsylvania.
Keystone Savings Bank | Bethlehem | Pennsylvania.
Columbia County Farmers National Bank | Bloomsburg | Pennsylvania.
The Bryn Mawr Trust Company | Bryn Mawr | Pennsylvania.
Citizens National Bank of Evans City PA | Butler | Pennsylvania.
Commerce Bank/Harrisburg, N.A. | Camp Hill | Pennsylvania.
Community Bank, N.A. | Carmichaels | Pennsylvania.
Charleroi Federal Savings Bank | Charleroi | Pennsylvania.
FirsTrust Bank | Conshohocken | Pennsylvania.
Armstrong County Building & Loan Association | Ford City | Pennsylvania.
Greenville Savings Bank | Greenville | Pennsylvania.
Fulton Bank | Lancaster | Pennsylvania.
Citizens National Bank | Lansford | Pennsylvania.
Westmoreland FS&LA of Latrobe | Latrobe | Pennsylvania.
Mifflin County Savings Bank | Lewistown | Pennsylvania.
First Citizens National Bank | Mansfield | Pennsylvania.
The First National Bank of Mifflintown | Mifflintown | Pennsylvania.
First Federal Savings Bank | Monessen | Pennsylvania.
Parkvale Savings Bank | Monroeville | Pennsylvania.
Community State Bank of Orbisonia | Orbisonia | Pennsylvania.
Prudential Savings Bank | Philadelphia | Pennsylvania.
Beneficial Savings Bank | Philadelphia | Pennsylvania.
First Republic Bank | Philadelphia | Pennsylvania.
West View Savings Bank | Pittsburgh | Pennsylvania.
NorthSide Bank | Pittsburgh | Pennsylvania.
Liberty Savings Bank, F.S.B. | Pottsville | Pennsylvania.
Elk County Savings & Loan Association | Ridgway | Pennsylvania.
Sewickley Savings Bank | Sewickley | Pennsylvania.
Keystone State Savings Bank | Sharpsburg | Pennsylvania.
The First National Bank of Slippery Rock | Slippery Rock | Pennsylvania.
Union National Bank and Trust Company | Souderton | Pennsylvania.
East Stroudsburg Savings Association | Stroudsburg | Pennsylvania.
Washington Federal Savings Bank | Washington | Pennsylvania.
First FS&LA of Greene County | Waynesburg | Pennsylvania.
Citizens & Northern Bank | Wellsboro | Pennsylvania.
First Sentry Bank | Huntington | West Virginia.
Huntington Federal Savings Bank | Huntington | West Virginia.
Doolin Security Savings Bank FSB | New Martinsville | West Virginia.
United Bank, Inc. | Parkersburg | West Virginia.
First FS&LA of Ravenswood | Ravenswood | West Virginia.
First Federal Savings Bank | Sistersville | West Virginia.
Capon Valley Bank | Wardensville | West Virginia.
Williamstown National Bank | Williamstown | West Virginia.
Federal Home Loan Bank of Atlanta—District 4
Brantley Bank and Trust Company | Brantley | Alabama.
Robertson Banking Company | Demopolis | Alabama.
The Citizens Bank | Greensboro | Alabama.
Security Federal Savings Bank | Jasper | Alabama.
Gulf Federal Bank, a FSB | Mobile | Alabama.
The Citizens Bank | Moulton | Alabama.
Phenix-Girard Bank | Phenix City | Alabama.
The Bank of Vernon | Vernon | Alabama.
Bank of Wedowee | Wedowee | Alabama.
Bank of Belle Glade | Belle Glade | Florida.
Community Bank of Manatee | Bradenton | Florida.
Florida Citizens Bank | Gainesville | Florida.
Peoples State Bank of Groveland | Groveland | Florida.
Florida Bank, N.A. | Jacksonville | Florida.
First State Bank of Florida Keys | Key West | Florida.
Peoples Community Bank | Malone | Florida.
Commercebank, N.A. | Miami | Florida.
International Finance Bank | Miami | Florida.
Charlotte State Bank | Port Charlotte | Florida.
Bank of St. Augustine | St. Augustine | Florida.
Cornerstone Bank | Atlanta | Georgia.
The Claxton Bank | Claxton | Georgia
Central Bank and Trust | Cordele | Georgia.
Chestatee State Bank | Dawsonville | Georgia.
Colony Bank Southeast | Douglas | Georgia.
Bank of Eastman | Eastman | Georgia.
Gilmer County Bank | Ellijay | Georgia.
Capital Bank | Fort Oglethorpe | Georgia.
Bank of Hiawassee | Hiawassee | Georgia.
Farmers State Bank | Lincolnton | Georgia.
Peoples Bank | Lyons | Georgia.
Mount Vernon Bank | Mt. Vernon | Georgia.
The Citizens Bank | Nashville | Georgia.
Colony Bank Wilcox | Rochelle | Georgia.
Greater Rome Bank | Rome | Georgia.
Georgia Central Bank | Social Circle | Georgia.
Citizens Security Bank | Tifton | Georgia.
Community First Bank | Baltimore | Maryland.
Mercantile Safe Deposit and Trust Company | Baltimore | Maryland.
Easton Bank and Trust Company | Easton | Maryland.
Jarrettsville Federal S&L Association | Jarrettsville | Maryland.
Maryland Bank and Trust Company | Lexington Park | Maryland.
First National Bank of North East | North East | Maryland.
Colombo Bank | Rockville | Maryland.
United Community Bank | Brevard | North Carolina.
The East Carolina Bank | Engelhard | North Carolina.
Catawba Valley Bank | Hickory | North Carolina.
First Bank | Troy | North Carolina.
Sandhills Bank | Bethune | South Carolina.
The Peoples Bank | Iva | South Carolina.
The Palmetto Bank | Laurens | South Carolina.
Beach First National Bank | Myrtle Beach | South Carolina.
The Citizens Bank | Olanta | South Carolina.
First State Bank | Danville | Virginia.
Powell Valley National Bank | Jonesville | Virginia.
The Bank of Charlotte County | Phenix | Virginia.
Valley Bank | Roanoke | Virginia.
Federal Home Loan Bank of Cincinnati—District 5
Bank of Edmonson County | Brownsville | Kentucky.
United Citizens Bank & Trust Company | Campbellsburg | Kentucky.
Citizens Bank & Trust Company | Campbellsville | Kentucky.
Farmers and Traders Bank of Campton | Campton | Kentucky.
Carrollton Federal Savings and Loan Association | Carrollton | Kentucky.
The First National Bank of Central City | Central City | Kentucky.
First Community Bank of Western Kentucky | Clinton | Kentucky.
Clinton Bank | Clinton | Kentucky.
The Farmers National Bank of Cynthiana | Cynthiana | Kentucky.
Central Kentucky Federal Savings and Loan Assn | Danville | Kentucky.
United Kentucky Bank of Pendleton County | Falmouth | Kentucky.
State Bank & Trust Company | Harrodsburg | Kentucky.
First Financial Bank | Harrodsburg | Kentucky.
First Federal Savings & Loan Association | Hazard | Kentucky.
The Citizens National Bank | Lebanon | Kentucky.
Home Federal Bank Corporation | Middlesboro | Kentucky.
Peoples Bank Mt. Washington | Mt. Washington | Kentucky.
First Bank and Trust Company | Princeton | Kentucky.
Liberty National Bank | Ada | Ohio.
Peoples Savings and Loan Company | Bucyrus | Ohio.
First Safety Bank | Cincinnati | Ohio.
The Provident Bank | Cincinnati | Ohio.
The Clifton Heights Loan and Building Company | Cincinnati | Ohio.
The Savings Bank | Circleville | Ohio.
The Peoples Bank Company | Coldwater | Ohio.
First City Bank | Columbus | Ohio.
The Cortland Savings and Banking Company | Cortland | Ohio.
Ohio Heritage Bank | Coshocton | Ohio.
Valley Savings Bank | Cuyahoga Falls | Ohio.
First Federal Bank of the Midwest | Defiance | Ohio.
Fidelity Federal Savings and Loan Association | Delaware | Ohio.
Heartland Bank | Gahanna | Ohio.
Home Building and Loan Company | Greenfield | Ohio.
Greenville Federal Savings and Loan Association | Greenville | Ohio.
Lawrence Federal Savings Bank | Ironton | Ohio.
Liberty Federal Savings and Loan Association | Ironton | Ohio.
Ohio River Bank | Ironton | Ohio.
The Home Savings and Loan Co. of Kenton, Ohio | Kenton | Ohio.
Kingston National Bank | Kingston | Ohio.
The Citizens Bank of Logan | Logan | Ohio.
The Mechanics Savings Bank | Mansfield | Ohio.
Peoples Bank, National Association | Marietta | Ohio.
The Middlefield Banking Company | Middlefield | Ohio.
The Nelsonville Home and Savings Association | Nelsonville | Ohio.
First FS&LA of Newark | Newark | Ohio.
The National Bank of Oak Harbor | Oak Harbor | Ohio.
The Valley Central Savings Bank | Reading | Ohio.
The Citizens Banking Company | Sandusky | Ohio.
Peoples FS&LA of Sidney | Sidney | Ohio.
Commodore Bank | Somerset | Ohio.
Monroe Federal Savings and Loan Association | Tipp City | Ohio.
Van Wert Federal Savings Bank | Van Wert | Ohio.
Home Savings Bank | Wapakoneta | Ohio.
The Waterford Commercial and Savings Bank | Waterford | Ohio.
Adams County Building and Loan Company | West Union | Ohio.
Bank of Bartlett | Bartlett | Tennessee.
The Bank of Bolivar | Bolivar | Tennessee.
Farmers & Merchants Bank | Clarksville | Tennessee.
Farmers and Merchants Bank | Dyer | Tennessee.
First Citizens National Bank of Dyersburg | Dyersburg | Tennessee.
Elizabethton Federal Savings Bank | Elizabethton | Tennessee.
Progressive Savings Bank, F.S.B. | Jamestown | Tennessee.
Home Federal Bank of Tennessee | Knoxville | Tennessee.
Volunteer Federal Savings & Loan Association | Madisonville | Tennessee.
Jefferson Federal Savings and Loan Association | Morristown | Tennessee.
TNBANK | Oak Ridge | Tennessee.
Citizens Community Bank | Winchester | Tennessee
Federal Home Loan Bank of Indianapolis—District 6
First Federal Savings Bank—Angola | Angola | Indiana.
Peoples FSB of Dekalb County | Auburn | Indiana.
Peoples Federal Savings Bank | Aurora | Indiana.
Farmers and Mechanics FS & LA | Bloomfield | Indiana.
The First State Bank | Bourbon | Indiana.
Home Federal Bank | Columbus | Indiana.
Community First Bank | Corydon | Indiana.
Old National Bank | Evansville | Indiana.
Farmers Bank | Frankfort | Indiana.
Newton County Loan & SA of Goodland | Goodland | Indiana.
First Federal Savings & Loan of Greensburg | Greensburg | Indiana.
Lake FS & LA of Hammond | Hammond | Indiana.
HFS Bank, FSB | Hobart | Indiana.
Security Federal Savings Bank | Logansport | Indiana.
City Savings Bank | Michigan City | Indiana.
The First National Bank of Monterey | Monterey | Indiana.
Mutual FSB | Muncie | Indiana.
First Merchants Bank, N.A. | Muncie | Indiana.
American Savings, FSB | Munster | Indiana.
Community Bank | Noblesville | Indiana.
The First National Bank of Odon | Odon | Indiana.
Lincoln Bank | Plainfield | Indiana.
Scottsburg Building & Loan Association | Scottsburg | Indiana.
Owen Community Bank, s.b. | Spencer | Indiana.
First Farmers State Bank | Sullivan | Indiana.
Peoples Community Bank | Tell City | Indiana.
First Financial Bank | Terre Haute | Indiana.
First FSB of Wabash | Wabash | Indiana.
First FS & LA | Washington | Indiana.
Peoples Bank | Washington | Indiana.
Bank of Wolcott | Wolcott | Indiana.
First Federal of Northern Michigan | Alpena | Michigan.
Bay Port State Bank | Bay Port | Michigan.
Farmers State Bank Breckenridge | Breckenridge | Michigan.
Eaton Federal Savings Bank | Charlotte | Michigan.
Huron Community Bank | East Tawas | Michigan.
Hastings City Bank | Hastings | Michigan.
Kalamazoo County State Bank | Schoolcraft | Michigan.
Franklin Bank | Southfield | Michigan.
First National Bank of St. Ignace | St. Ignace | Michigan.
Northwestern Bank | Traverse City | Michigan.
Federal Home Loan Bank of Chicago—District 7
Cornerstone Bank & Trust, N.A. | Alton | Illinois.
First National Bank of Jonesboro | Anna | Illinois.
West Pointe Bank and Trust Company | Belleville | Illinois.
Belvidere National Bank and Trust Company | Belvidere | Illinois.
Citizens Savings Bank | Bloomington | Illinois.
American Enterprise Bank | Buffalo Grove | Illinois.
Farmers State Bank of Camp Point | Camp Point | Illinois.
Central Illinois Bank | Champaign | Illinois.
First Federal Savings Bank of Champaign-Urbana | Champaign | Illinois.
Charleston Federal Savings & Loan Association | Charleston | Illinois.
Broadway Bank | Chicago | Illinois.
Lincoln Park Savings Bank | Chicago | Illinois.
Fidelity Federal Savings Bank | Chicago | Illinois
1st Security Federal Savings Bank | Chicago | Illinois.
Mutual Federal Savings and Loan | Chicago | Illinois.
Central FS&LA of Chicago | Chicago | Illinois.
Liberty Bank for Savings | Chicago | Illinois.
Columbus Savings Bank | Chicago | Illinois.
Collinsville Building and Loan Association | Collinsville | Illinois.
Home Federal Savings & Loan Association | Collinsville | Illinois.
Hickory Point Bank & Trust, Fsb | Decatur | Illinois.
CoVest Banc, National Association | Des Plaines | Illinois.
First Federal Savings and Loan | Edwardsville | Illinois.
Forreston State Bank | Forreston | Illinois.
Central Bank Fulton | Fulton | Illinois.
Glenview State Bank | Glenview | Illinois.
Guardian Savings Bank FSB | Granite City | Illinois.
First National Bank of Grant Park | Grant Park | Illinois.
The Granville National Bank | Granville | Illinois.
The Bradford National Bank of Greenville | Greenville | Illinois.
The Havana National Bank | Havana | Illinois.
Herrin Security Bank | Herrin | Illinois.
CIB Bank | Hillside | Illinois.
South End Savings, s.b. | Homewood | Illinois.
Eureka Savings Bank | La Salle | Illinois.
First State Bank of Western Illinois | LaHarpe | Illinois.
First National Bank of Illinois | Lansing | Illinois.
Lisle Savings Bank | Lisle | Illinois.
First National Bank of Litchfield | Litchfield | Illinois.
West Suburban Bank | Lombard | Illinois.
First Security Bank | Mackinaw | Illinois.
First National Bank of Manhattan | Manhattan | Illinois.
Milford Building & Loan Association | Milford | Illinois.
Nashville Savings Bank | Nashville | Illinois.
Northview Bank & Trust | Northfield | Illinois.
Illini State Bank | Oglesby | Illinois.
The Poplar Grove State Bank | Poplar Grove | Illinois.
Citizens First National Bank | Princeton | Illinois.
First Robinson Savings Bank, NA | Robinson | Illinois.
Alpine Bank | Rockford | Illinois.
First FS&LA of Shelbyville, IL | Shelbyville | Illinois.
The First National Bank | Vandalia | Illinois.
International Bank of Amherst | Amherst | Wisconsin.
First National Bank of Bangor | Bangor | Wisconsin.
Bank of Brodhead | Brodhead | Wisconsin.
Bank of Deerfield | Deerfield | Wisconsin.
Fox Valley Savings | Fond du Lac | Wisconsin.
National Exchange Bank & Trust | Fond du Lac | Wisconsin.
Continental Savings Bank, S.A. | Greenfield | Wisconsin.
ISB Community Bank | Ionia | Wisconsin.
Ladysmith Federal Savings & Loan | Ladysmith | Wisconsin.
First Federal Capital Bank | La Crosse | Wisconsin.
Markesan State Bank | Markesan | Wisconsin.
Fidelity National Bank | Medford | Wisconsin.
Merrill Federal Savings and Loan Association | Merrill | Wisconsin.
Guaranty Bank, F.S.B. | Milwaukee | Wisconsin.
Bank of Elmwood | Racine | Wisconsin.
Heritage Bank | Spencer | Wisconsin.
First Bank of Tomah | Tomah | Wisconsin.
Farmers State Bank of Waupaca | Waupaca | Wisconsin.
Paper City Savings Association | Wisconsin Rapids | Wisconsin.
Federal Home Loan Bank of Des Moines—District 8
Citizens Savings Bank | Anamosa | Iowa.
Community State Bank, N.A. | Ankeny | Iowa.
Ashton State Bank | Ashton | Iowa.
Atkins Savings Bank & Trust | Atkins | Iowa.
MidwestOne Bank | Burlington | Iowa.
Iowa Trust and Savings Bank | Centerville | Iowa.
First Security Bank and Trust | Charles City | Iowa.
Page County Federal Savings Association | Clarinda | Iowa.
First Federal Savings Bank of Creston, F.S.B. | Creston | Iowa.
Principal Bank | Des Moines | Iowa.
Fidelity Bank & Trust | Dyersville | Iowa.
Community Savings Bank | Edgewood | Iowa.
First American Bank | Fort Dodge | Iowa.
Hampton State Bank | Hampton | Iowa.
Independence Federal Bank for Savings | Independence | Iowa.
Farmers & Merchants Savings Bank | Iowa City | Iowa.
First Community Bank | Keokuk | Iowa.
Keokuk Savings Bank & Trust Company | Keokuk | Iowa.
Keystone Savings Bank | Keystone | Iowa.
Iowa State Savings Bank | Knoxville | Iowa.
Cedar Valley Bank & Trust | La Porte City | Iowa.
United Community Bank | Milford | Iowa.
New Albin Savings Bank | New Albin | Iowa.
City State Bank | Norwalk | Iowa.
Northwestern State Bank of Orange City | Orange City | Iowa.
Clarke County State Bank | Osceola | Iowa.
Bank Iowa | Oskaloosa | Iowa.
First Trust and Savings Bank | Oxford | Iowa.
Citizens State Bank | Pocahontas | Iowa.
Citizens Bank | Sac City | Iowa.
American State Bank | Sioux Center | Iowa.
Solon State Bank | Solon | Iowa.
Northwest Federal Savings Bank | Spencer | Iowa.
First Federal Savings Bank of the Midwest | Storm Lake | Iowa.
Randall-Story State Bank | Story City | Iowa.
Waukee State Bank | Waukee | Iowa.
West Liberty State Bank | West Liberty | Iowa.
Viking Savings Association, F.A. | Alexandria | Minnesota.
Northern National Bank | Baxter | Minnesota.
First State Bank of Bigfork | Bigfork | Minnesota.
Brainerd Savings & Loan Association, A F.A. | Brainerd | Minnesota.
The Oakley National Bank of Buffalo | Buffalo | Minnesota.
State Bank in Eden Valley | Eden Valley | Minnesota.
Bank Midwest, MN, IA, N.A. | Fairmont | Minnesota.
The State Bank of Faribault | Faribault | Minnesota.
The First National Bank of Menahga | Menahga | Minnesota.
TCF National Bank | Minneapolis | Minnesota.
The First National Bank of Osakis | Osakis | Minnesota.
First National Bank | Plainview | Minnesota.
First Minnesota Bank, NA | Shorewood | Minnesota.
Citizens Independent Bank | St. Louis Park | Minnesota.
First National Bank of St. Peter | St. Peter | Minnesota.
Minnwest Bank South | Tracy | Minnesota.
Queen City Federal Savings Bank | Virginia | Minnesota.
Missouri Federal Savings Bank | Cameron | Missouri.
Southwest Missouri Bank | Carthage | Missouri.
North American Savings Bank, FSB | Grandview | Missouri.
MCM Savings Bank, F.S.B. | Hannibal | Missouri.
First Bank | Hazelwood | Missouri.
First Federal Bank, F.S.B. | Kansas City | Missouri.
Liberty Savings Bank, FSB | Liberty | Missouri.
Clay County Savings Bank | Liberty | Missouri.
First Home Savings Bank | Mountain Grove | Missouri.
Home S&LA of Norborne, F.A. | Norborne | Missouri.
Southern Missouri Bank & Trust Company | Poplar Bluff | Missouri.
Central Federal Savings and Loan Association | Rolla | Missouri.
Montgomery Bank | Sikeston | Missouri.
Guaranty Bank | Springfield | Missouri.
Midwest FS&LA of St. Joseph | St. Joseph | Missouri.
Bremen Bank and Trust Company | St. Louis | Missouri.
Southern Commercial Bank | St. Louis | Missouri.
Starion Financial | Bismarck | North Dakota.
The Ramsey NB&TC of Devils Lake | Devils Lake | North Dakota.
American State Bank & Trust of Dickinson | Dickinson | North Dakota.
Security State Bank | Dunseith | North Dakota.
Alerus Financial | Grand Forks | North Dakota.
The National Bank of Harvey | Harvey | North Dakota.
Dacotah Bank | Aberdeen | South Dakota.
First Federal Bank | Beresford | South Dakota.
First Savings Bank | Beresford | South Dakota.
First National Bank in Brookings | Brookings | South Dakota.
Bryant State Bank | Bryant | South Dakota.
First Western Federal Savings Bank | Rapid City | South Dakota.
Federal Home Loan Bank of Dallas—District 9
First National Banking Company | Ash Flat | Arkansas.
Arkansas National Bank | Bentonville | Arkansas.
Heartland Community Bank | Camden | Arkansas.
Corning Savings and Loan Association | Corning | Arkansas.
Arkansas Diamond Bank | Glenwood | Arkansas.
First Arkansas Bank & Trust | Jacksonville | Arkansas.
First Community Bank | Jonesboro | Arkansas.
Arkansas Bankers' Bank | Little Rock | Arkansas.
Diamond State Bank | Murfreesboro | Arkansas.
First National Bank | Paragould | Arkansas.
Bank of Rogers | Rogers | Arkansas.
The Bank of Star City | Star City | Arkansas.
Bank of Waldron | Waldron | Arkansas.
First National Bank USA | Boutte | Louisiana.
Citizens Progressive Bank | Columbia | Louisiana.
Beauregard Federal Savings Bank | DeRidder | Louisiana.
Home Bank | Lafayette | Louisiana.
First Federal Bank of Louisiana | Lake Charles | Louisiana.
Bank of New Orleans | Metairie | Louisiana.
Minden Building and Loan Association | Minden | Louisiana.
Dryades Savings Bank, FSB | New Orleans | Louisiana.
Fifth District Savings & Loan Association | New Orleans | Louisiana.
Union Savings and Loan Association | New Orleans | Louisiana.
Plaquemine Bank & Trust Company | Plaquemine | Louisiana.
Rayne Building and Loan Association | Rayne | Louisiana.
Citizens Bank and Trust Company | Springhill | Louisiana.
Statewide Bank | Terrytown | Louisiana.
First National Bank of Lucedale | Lucedale | Mississippi.
First National Bank | Pontotoc | Mississippi.
Central Bank For Savings | Winona | Mississippi.
Alamogordo Federal Savings & Loan Association | Alamogordo | New Mexico.
Charter Bank | Albuquerque | New Mexico.
First National Bank | Artesia | New Mexico.
The First National Bank of New Mexico | Clayton | New Mexico.
First National Bank in Las Vegas | Las Vegas | New Mexico.
First Federal Bank | Roswell | New Mexico.
Alamo Bank of Texas | Alamo | Texas.
Firstbank Southwest, National Association | Amarillo | Texas.
Southwest Securities Bank | Arlington | Texas.
Affiliated Bank, FSB | Bedford | Texas.
Brenham National Bank | Brenham | Texas.
Texas Bank | Brownwood | Texas.
The First State Bank | Celina | Texas.
The First National Bank of Chillicothe | Chillicothe | Texas.
First Bank of West Texas | Coahoma | Texas.
The First State Bank | Columbus | Texas.
First Bank of Conroe, N.A | Conroe | Texas.
First Commerce Bank | Corpus Christi | Texas.
Citizens National Bank | Crockett | Texas.
Cuero State Bank, s.s.b. | Cuero | Texas.
Dalhart Federal Savings and Loan Association | Dalhart | Texas.
Preston National Bank | Dallas | Texas.
Colonial Savings, F.A | Fort Worth | Texas.
Citizens National Bank | Fort Worth | Texas.
Guaranty National Bank Financial, N.A | Gainesville | Texas.
National Bank | Gatesville | Texas.
Houston Community Bank, N.A | Houston | Texas.
Justin State Bank | Justin | Texas.
City National Bank | Kilgore | Texas.
Farmers & Merchants State Bank | Krum | Texas.
Fayette Savings Bank, ssb | La Grange | Texas.
National Bank & Trust | La Grange | Texas.
Commerce Bank | Laredo | Texas.
Falcon National Bank | Laredo | Texas.
East Texas Professional Credit Union | Longview | Texas.
TX Bank & Trust Company | Longview | Texas.
First State Bank of Louise | Louise | Texas.
First Bank & Trust Company | Lubbock | Texas.
Lubbock National Bank | Lubbock | Texas.
Gladewater National Bank | Mesquite | Texas.
First National Bank of Mount Vernon, Texas | Mount Vernon | Texas.
First National Bank in Munday | Munday | Texas.
The Morris County National Bank | Naples | Texas.
Peoples National Bank | Paris | Texas.
First Federal Community Bank | Paris | Texas.
Gulf Coast Educators FCU | Pasadena | Texas.
Point Bank, N.A. | Pilot Point | Texas.
Pilgrim Bank | Pittsburg | Texas.
Wood County National Bank | Quitman | Texas.
Robert Lee State Bank | Robert Lee | Texas.
Intercontinental National Bank | San Antonio | Texas.
Balcones Bank, SSB | San Marcos | Texas.
Citizens State Bank | Sealy | Texas.
Southern National Bank of Texas | Sugar Land | Texas.
American National Bank of Texas | Terrell | Texas.
Citizens 1st Bank | Tyler | Texas.
Hill Bank & Trust Company | Weimar | Texas.
American National Bank | Wichita Falls | Texas.
Wilson State Bank | Wilson | Texas.
Federal Home Loan Bank of Topeka—District 10
San Luis Valley Federal Bank | Alamosa | Colorado.
Collegiate Peaks Bank | Buena Vista | Colorado.
Pikes Peak National Bank | Colorado Springs | Colorado.
Vectra Bank Colorado, N.A. | Denver | Colorado.
Rocky Mountain Bank and Trust | Florence | Colorado.
First National Bank | Fort Collins | Colorado.
Community Banks of Colorado | Greenwood Village | Colorado.
Gunnison Savings and Loan Association | Gunnison | Colorado.
Rio Grande Savings and Loan Association | Monte Vista | Colorado.
Montrose Bank | Montrose | Colorado.
Peoples National Bank Monument | Monument | Colorado.
The First National Bank of Ordway | Ordway | Colorado.
Paonia State Bank | Paonia | Colorado.
Community Banks of Southern Colorado | Rocky Ford | Colorado.
Century Savings & Loan Association | Trinidad | Colorado.
Park State Bank & Trust | Woodland Park | Colorado.
Prairie State Bank | Augusta | Kansas.
First National Bank in Cimarron | Cimarron | Kansas.
Girard National Bank | Girard | Kansas.
Farmers Bank & Trust, N.A. | Great Bend | Kansas.
Golden Belt Bank, FSA | Hays | Kansas.
Central National Bank | Junction City | Kansas.
Argentine Federal Savings | Kansas City | Kansas.
Citizens Bank of Kansas, N.A. | Kingman | Kansas.
University National Bank | Lawrence | Kansas.
Mutual Savings Association, FSA | Leavenworth | Kansas.
The Citizens State Bank of Liberal, Kansas | Liberal | Kansas.
The Citizens State Bank | Moundridge | Kansas.
Midland National Bank | Newton | Kansas.
Bank of Blue Valley | Overland Park | Kansas.
Peabody State Bank | Peabody | Kansas.
Plains State Bank | Plains | Kansas.
Peoples Bank | Pratt | Kansas.
First Bank Kansas | Salina | Kansas.
Security Savings Bank, FSB | Salina | Kansas.
Stockton National Bank | Stockton | Kansas.
First National Bank | Syracuse | Kansas.
The Bank of Tescott | Tescott | Kansas.
Capitol Federal Savings | Topeka | Kansas.
Silver Lake Bank | Topeka | Kansas.
Kendall State Bank | Valley Falls | Kansas.
The Bank of Commerce & Trust Company | Wellington | Kansas.
Commerce Bank, N.A. | Wichita | Kansas.
Garden Plain State Bank | Wichita | Kansas.
Western Heritage Credit Union | Alliance | Nebraska.
Farmers & Merchants National Bank | Ashland | Nebraska.
Clarkson Bank | Clarkson | Nebraska.
Nebraska Energy Federal Credit Union | Columbus | Nebraska.
American Interstate Bank | Elkhorn | Nebraska.
Genoa National Bank | Genoa | Nebraska.
United Nebraska Bank | Grand Island | Nebraska.
TierOne Bank | Lincoln | Nebraska.
Platte Valley National Bank | Morrill | Nebraska.
Otoe County Bank & Trust Company | Nebraska City | Nebraska.
The Nehawka Bank | Nehawka | Nebraska.
Enterprise Bank, NA | Omaha | Nebraska.
Platte Valley National Bank | Scottsbluff | Nebraska.
First National Bank | Sidney | Nebraska.
Anadarko Bank and Trust Company | Anadarko | Oklahoma.
Community Bank | Bristow | Oklahoma.
Oklahoma Bank & Trust Company | Clinton | Oklahoma.
American Bank of Oklahoma | Collinsville | Oklahoma.
Citizens Bank of Edmond | Edmond | Oklahoma.
First National Bank & Trust | Elk City | Oklahoma.
Bank of the Panhandle | Guymon | Oklahoma.
Legacy Bank | Hinton | Oklahoma.
McCurtain County National Bank | Idabel | Oklahoma.
The First State Bank | Keyes | Oklahoma.
City National Bank & Trust Company | Lawton | Oklahoma.
First State Bank of Porter | Locust Grove | Oklahoma.
First National Bank in Marlow | Marlow | Oklahoma.
Community National Bank of Okarche | Okarche | Oklahoma.
First National Bank in Okeene | Okeene | Oklahoma.
BancFirst | Oklahoma City | Oklahoma.
NBanc—OKC | Oklahoma City | Oklahoma.
The Bankers Bank | Oklahoma City | Oklahoma.
Citizens Bank & Trust Company | Okmulgee | Oklahoma.
The Okmulgee Savings and Loan Association | Okmulgee | Oklahoma.
Bank of the Lakes, N.A. | Owasso | Oklahoma.
The Farmers State Bank of Quinton | Quinton | Oklahoma.
First National Bank & Trust Company | Shawnee | Oklahoma.
Triad Bank, N.A. | Tulsa | Oklahoma.
Valley National Bank | Tulsa | Oklahoma.
The First National Bank & TC of Vinita | Vinita | Oklahoma.
Federal Home Loan Bank of San Francisco—District 11
Pacific Premier Bank | Costa Mesa | California.
Fullerton Community Bank | Fullerton | California.
Western Financial Bank | Irvine | California.
Silvergate Bank | La Jolla | California.
Borrego Springs Bank, N.A. | La Mesa | California.
Broadway Federal Bank, f.s.b. | Los Angeles | California.
Monterey County Bank | Monterey | California.
Standard Savings Bank, FSB | Monterey Park | California.
Metropolitan Bank | Oakland | California.
Community Bank | Pasadena | California.
IndyMac Bank | Pasadena | California.
El Dorado Savings Bank | Placerville | California.
Sincere Federal Savings Bank | San Francisco | California.
East West Bank | San Marino | California.
First FS&LA of San Rafael | San Rafael | California.
First Federal Bank of California | Santa Monica | California.
National Bank of the Redwoods | Santa Rosa | California.
Sunwest Bank | Tustin | California.
Desert Community Bank | Victorville | California.
Washington Mutual Bank | Seattle | Washington.
Federal Home Loan Bank of Seattle—District 12
First National Bank Alaska | Anchorage | Alaska.
Mt. McKinley Bank | Fairbanks | Alaska.
Bank of Guam | Hagatna | Guam.
American Savings Bank | Honolulu | Hawaii.
Mountain West Bank | Coeur D'Alene | Idaho.
Big Sky Western Bank | Bozeman | Montana.
First Security Bank of Bozeman | Bozeman | Montana.
Ravalli County Bank | Hamilton | Montana.
American Federal Savings Bank | Helena | Montana.
Glacier Bank | Kalispell | Montana.
First Security Bank of Malta | Malta | Montana.
Manhattan State Bank | Manhattan | Montana.
Stockman Bank of Montana | Miles City | Montana.
Glacier Bank of Whitefish | Whitefish | Montana.
Bank of Astoria | Astoria | Oregon.
Bank of Salem | Salem | Oregon.
Columbia River Bank | The Dalles | Oregon.
Wells Fargo Bank Northwest, N.A. | Salt Lake City | Utah.
Cascade Bank | Everett | Washington.
Raymond Federal Savings Bank | Raymond | Washington.
Evergreen Bank | Seattle | Washington.
Washington Federal Savings | Seattle | Washington.
Sterling Savings Bank | Spokane | Washington.
Buffalo Federal Savings Bank | Buffalo | Wyoming.
Hilltop National Bank | Casper | Wyoming.
Big Horn Federal Savings Bank | Greybull | Wyoming.

II. Public Comments

To encourage the submission of public comments on the community support performance of Bank members, on or before July 23, 2004, each Bank will notify its Advisory Council and nonprofit housing developers, community groups, and other interested parties in its district of the members selected for community support review in the 2004-05 second quarter review cycle. 12 CFR 944.2(b)(2)(ii). In reviewing a member for community support compliance, the Finance Board will consider any public comments it has received concerning the member. 12 CFR 944.2(d). To ensure consideration by the Finance Board, comments concerning the community support performance of members selected for the 2004-05 second quarter review cycle must be delivered to the Finance Board on or before the August 20, 2004 deadline for submission of Community Support Statements.

Dated: June 29, 2004.
Mark J. Tenhundfeld,
General Counsel.

[FR Doc. 04-15276 Filed 7-6-04; 8:45 am]

BILLING CODE 6725-01-P